DEPARTMENT OF ENERGY

Federal Energy Regulatory Commission

[Docket No. AD09-11-000]

Natural Gas Infrastructure and Opportunities for Improved Efficiency; Notice of Public Conference

September 21, 2009.

Take notice that a public conference will be held on December 2, 2009, from approximately 9 a.m. until 12 p.m. Eastern Time, in the Commission Meeting Room on the second floor of the offices of the Federal Energy Regulatory Commission, 888 First Street, NE., Washington, DC. All interested persons may attend; there is neither registration nor a registration fee. Commissioners are expected to participate.

The conference will focus on waste heat recovery efforts as well as other efficiency measures in the natural gas industry.

Transcripts of the conference will be immediately available from Ace Reporting Company (202-347-3700 or 1-800-336-6646) for a fee. A free webcast of this event is available through http://www.ferc.gov. Anyone with internet access who desires to view this event can do so by navigating to the Calendar of Events at http://www.ferc.gov and locating this event in the Calendar. The event will contain a link to its webcast. The Capitol Connection provides technical support for the free webcasts. It also offers access to this event via television in the Washington, DC area and via phone-bridge for a fee. If you have any questions, visit http://www.CapitolConnection.org or call (703) 993-3100.

FERC conferences are accessible under section 508 of the Rehabilitation Act of 1973. For accessibility accommodations please send an e-mail to accessibility@ferc.gov or call toll free 866-208-3372 (voice) or (202)-208-1659 (TTY), or send a FAX to (202)-208-2106 with the required accommodations. Additional details and the agenda for this conference will be included in a subsequent notice. For more information about the conference, please contact Pamela Romano at (202) 502-6854 (pamela.romano@ferc.gov).

Nathaniel J. Davis, Sr.,
Deputy Secretary.

[FR Doc. E9-23346 Filed 9-28-09; 8:45 am]

BILLING CODE 6717-01-P